DEPARTMENT OF THE INTERIOR

National Park Service

Notice of Inventory Completion: Arkansas Department of Parks and Tourism, Arkansas State Parks, Little Rock, AR, and Arkansas Archeological Survey, Fayetteville, AR

AGENCY: National Park Service.

ACTION: Notice.

Notice is here given in accordance with the Native American Graves Protection and Repatriation Act (NAGPRA), 25 U.S.C. 3003, of the completion of an inventory of human remains and associated funerary objects in the control of Arkansas Department of Parks and Tourism, Arkansas State Parks, Little Rock, AR, and in the possession of the Arkansas Archeological Survey, Fayetteville, AR. The human remains and associated funerary objects were removed from Toltec Mounds Archeological State Park, Lonoke County, AR.

This notice is published as part of the National Park Service's administrative responsibilities under NAGPRA, 25 U.S.C. 3003 (d)(3). The determinations within this notice are the sole responsibility of the museum, institution, or Federal agency that has control of the Native American human remains and associated funerary objects. The National Park Service is not responsible for the determinations within this notice.

A detailed assessment of the human remains was made by Arkansas Archeological Survey professional staff in consultation with representatives of the Quapaw Tribe of Indians, Oklahoma and Arkansas Department of Parks and Tourism, Arkansas State Parks, Little Rock, AR.

In 1979, 1989, 1998, and 1999, human remains representing 15 individuals were removed by the Arkansas Archeological Survey from site 3LN42 at Toltec Mounds Archeological State Park. No known individuals were identified. The two associated funerary objects are one plain shell-tempered ceramic bottle and one red-filmed shell-tempered ceramic bowl.

The remains of five individuals have been dated to the Plum Bayou Culture (A.D. 750 to 950), a local tradition that developed in the late Woodland period. The Plum Bayou Culture is characterized by common vessel shapes and a predominance of plainware; minor amounts of Larto Red, Officer Punctated, Coles Creek Incised (Keo variety), and French Fork Incised vessels; particular styles of lithic tools; and use of some lithic raw materials from central Arkansas sources. The Plum Bayou Culture has been extensively studied by Martha Rolingson, the archeologist at Toltec Mounds Archeological State Park since its establishment in 1976.

The remains of one individual and the two associated funerary objects have been dated to the Menard Complex (A.D. 1450 to 1700), a local tradition that developed along the lower Arkansas River during the Mississippian period. The Menard Complex is characterized by an increased prevalence of painted ware, and common vessel shapes including globular neck bottles and helmet bowls.

The remains of nine individuals cannot be precisely dated, but are believed to have been interred at some point during the late Woodland, Mississippian, or historic period.

Toltec Mounds Archeological State Park is located along an oxbow of the lower Arkansas River. Archeological evidence from the park indicates a continuity of human occupation from A.D. 750 into the historic period. French explorers documented Quapaw villages at the mouth of the Arkansas River around 1700. The Quapaw are known to have hunted and traveled along the central Arkansas River in the vicinity of Toltec Mounds Archeological State Park during the historic period. In 1818, the Quapaw ceded this portion of the central Arkansas River valley, including the land that became Toltec Mounds Archeological State Park, to the United States. The continuity of archeological and historical evidence supports a relationship of shared group identity between the prehistoric occupants of Toltec Mounds Archeological State Park and the Quapaw Tribe of Indians, Oklahoma.

The Quapaw Tribe of Indians, Oklahoma maintains a strong link to Toltec Mounds Archeological State Park, and has negotiated an agreement with the Arkansas State Parks to establish a Keepsafe Cemetery at the park for the reburial of Native American human remains and associated funerary objects recovered from the Arkansas River valley. Quapaw traditional religious leaders have sanctified an area of the site for reburial of human remains.

Officials of Arkansas State Parks and the Arkansas Archeological Survey have determined that, pursuant to 25 U.S.C. 3001 (9-10), the human remains described above represent the physical remains of 15 individuals of Native American ancestry. Officials of Arkansas State Parks and the Arkansas Archeological Survey also have determined that, pursuant to 25 U.S.C. 3001 (3)(A), the two objects listed above are reasonably believed to have been placed with or near individual human remains at the time of death or later as part of the death rite or ceremony. Lastly, officials of Arkansas State Parks and the Arkansas Archeological Survey have determined that, pursuant to 25 U.S.C. 3001 (2), there is a relationship of shared group identity that can be reasonably traced between the Native American human remains and associated funerary objects and the Quapaw Tribe of Indians, Oklahoma.

Representatives of any other Indian tribe that believes itself to be culturally affiliated with the human remains and associated funerary objects should contact Patricia Murphy, Director, Historical Resources and Museum Services, Arkansas State Parks, One Capitol Mall, Little Rock, AR 72201, telephone (501) 682-3603, before December 26, 2003. Repatriation of the human remains and associated funerary objects to the Quapaw Tribe of Indians, Oklahoma may proceed after that date if no additional claimants come forward.

The Arkansas Archeological Survey in conjunction with Arkansas State Parks is responsible for notifying the Quapaw Tribe of Indians, Oklahoma, that this notice has been published.

Dated: October 28, 2003.
John Robbins,
Assistant Director, Cultural Resources.

[FR Doc. 03-29503 Filed 11-25-03; 8:45 am]

BILLING CODE 4310-50-S